DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and are available for domestic and foreign licensing by the Department of the Navy.

The following patents are available for licensing: Patent No. 8,227,651: HIGH DENSITY RENEWABLE FUELS BASED ON THE SELECTIVE DIMERIZATION OF PINENES//Patent Application Serial No. 13/426294: PROCESS AND APPARATUS FOR THE SELECTIVE DIMERIZATION OF TERPENES AND ALPHA-OLEFIN OLIGOMERS WITH A SINGLE-STAGE REACTOR AND A SINGLE-STAGE FRACTIONATION SYSTEM//Patent Application Serial No. 13/426347: PROCESS AND APPARATUS FOR THE SELECTIVE DIMERIZATION OF TERPENES AND ALPHA-OLEFIN OLIGOMERS WITH A SINGLE-STAGE REACTOR AND A SINGLE-STAGE FRACTIONATION SYSTEM//Patent Application Serial No. 13/426393: PROCESS AND APPARATUS FOR THE SELECTIVE DIMERIZATION OF TERPENES AND ALPHA-OLEFIN OLIGOMERS WITH A SINGLE-STAGE REACTOR AND A SINGLE-STAGE FRACTIONATION SYSTEM//Patent Application Serial No. 13/604115: METHODS FOR THE PRODUCTION OF RENEWABLE DIMETHYL JP-10//Patent Application Serial No. 13/605436: EFFICIENT CONVERSION OF PURE AND MIXED TERPENE FEEDSTOCKS TO HIGH DENSITY FUELS//Patent Application Serial No. 13/861198: RENEWABLE HIGH DENSITY TURBINE AND DIESEL FUELS//Patent Application Serial No. 14/171855: RENEWABLE HIGH-DENSITY, HIGH-OCTANE FUELS.

ADDRESSES: Requests for copies of the patents cited should be directed to Naval Air Warfare Center Weapons Division, Code 4L4000D, 1900 N. Knox Road Stop 6312, China Lake, CA 93555-6106.

FOR FURTHER INFORMATION CONTACT: Michael D. Seltzer, Ph.D., Head, Technology Transfer Office, Naval Air Warfare Center Weapons Division, Code 4L4000D, 1900 N. Knox Road Stop 6312, China Lake, CA 93555-6106, telephone 760-939-1074, FAX 760-939-1210, Email: michael.seltzer@navy.mil.

SUPPLEMENTARY INFORMATION: Crude sulfate turpentine, a waste by-product of the kraft paper process, is a renewable and inexpensive source of terpenes, which can be converted, through catalytic dimerization, to high-performance renewable fuels having potential application as significant components of jet, diesel, and tactical fuels.

Authority: 35 U.S.C. 207, 37 CFR part 404.

Dated: January 23, 2015.
P.A. Richelmi,
Lieutenant, Judge Advocate General's Corps, U.S. Navy, Alternate Federal Register Liaison Officer.

[FR Doc. 2015-01815 Filed 1-29-15; 8:45 am]

BILLING CODE 3810-FF-P